DEPARTMENT OF ENERGY

Federal Energy Regulatory Commission

Combined Notice of Filings #1

February 27, 2006.

Take notice that the Commission received the following electric rate filings:

Docket Numbers: ER05-597-000.

Applicants: Wayne-White Counties Electric Cooperative.

Description: Wayne-White Counties Electric Cooperative submits the negotiated settlement in its proceeding involving its OATT.

Filed Date: February 17, 2006.

Accession Number: 20060221-0188.

Comment Date: 5 p.m. eastern time on Friday, March 10, 2006.

Docket Numbers: ER06-262-001.

Applicants: Pittsfield Generating Company, L.P.

Description: Pittsfield Generating Co, LP submits its response together with supporting materials, to the deficiency letter issued on January 23, 2006.

Filed Date: February 16, 2006.

Accession Number: 20060221-0031.

Comment Date: 5 p.m. eastern time on Thursday, March 9, 2006.

Docket Numbers: ER06-508-001.

Applicants: Southern Company Services, Inc.

Description: Southern Company Services, Inc acting as agent for Alabama Power Co et al submits Substitute Original Sheet 141B.168 to FERC Electric Tariff, 4th Revised Volume No. 5 in accordance with Order 2006-A & 661-A.

Filed Date: February 16, 2006.

Accession Number: 20060221-0008.

Comment Date: 5 p.m. eastern time on Thursday, March 9, 2006.

Docket Numbers: ER06-647-000.

Applicants: ISO New England Inc.

Description: ISO New England, Inc and New England Power Pool submits amendments to the ISO Financial Assurance Policy for Market Participants Committee.

Filed Date: February 16, 2006.

Accession Number: 20060221-0084.

Comment Date: 5 p.m. eastern time on Thursday, March 9, 2006.

Docket Numbers: ER06-648-000.

Applicants: Duke Energy St. Francis LLC.

Description: Duke Energy St. Francis LLC submits its Notice of Cancellation (Attachment A) to cancel its market-based rate tariff, currently designated as FERC Electric Tariff, Original Volume No. 1.

Filed Date: February 17, 2006.

Accession Number: 20060221-0012.

Comment Date: 5 p.m. eastern time on Friday, March 10, 2006.

Docket Numbers: ER06-649-000.

Applicants: PJM Interconnection, L.L.C.

Description: PJM Interconnection, LLC submits an unexecuted interconnection service agreement etc with East Coast Power, LLC and Public Service Electric and Gas Co.

Filed Date: February 16, 2006.

Accession Number: 20060221-0013.

Comment Date: 5 p.m. eastern time on Thursday, March 9, 2006.

Docket Numbers: ER06-650-000.

Applicants: PJM Interconnection, L.L.C.

Description: PJM Interconnection LLC submits an interconnection service agreement among PJM, Calvert Cliffs Nuclear Power Plant Inc, and Baltimore Gas and Electric Co.

Filed Date: February 17, 2006.

Accession Number: 20060222-0012.

Comment Date: 5 p.m. eastern time on Friday, March 10, 2006.

Docket Numbers: ER06-651-000.

Applicants: Ohio Valley Electric Corporation.

Description: Ohio Valley Electric Corp submits notice of cancellation of transmission agreement, transmission scheduling agreement & lease with Louisville Gas & Electric Co.

Filed Date: February 17, 2006.

Accession Number: 20060222-0013.

Comment Date: 5 p.m. eastern time on Friday, March 10, 2006.

Docket Numbers: ER06-652-000.

Applicants: PECO Energy Company.

Description: PECO Energy Co submits a Notice of Cancellation of the Interconnection Agreement with Exelon Generation for the Eddystone Generating Facility.

Filed Date: February 17, 2006.

Accession Number: 20060222-0014.

Comment Date: 5 p.m. eastern time on Friday, March 10, 2006.

Docket Numbers: ER94-1478-018.

Applicants: Electrade Corporation.

Description: Electrade Corp submits an amendment to its market-based rate schedule.

Filed Date: February 16, 2006.

Accession Number: 20060221-0004.

Comment Date: 5 p.m. eastern time on Thursday, March 9, 2006.

Docket Numbers: ER96-2495-028; ER97-4143-016; ER97-1238-023; ER98-2075-022; ER98-542-018; EL04-131-000.

Applicants: AEP Power Marketing, Inc.; AEP Service Corporation; CSW Power Marketing, Inc.; CSW Energy Services, Inc.; Central and South West Services, Inc.

Description: American Electric Power Service Corp, on behalf of the AEP Power Marketing Inc et al submits on February 13, 2006 an Offer of Settlement and two related Settlement Agreements; on February 14, 2006 submits Certificate of Service.

Filed Date: February 13, 2006.

Accession Number: 20060223-0094.

Comment Date: 5 p.m. eastern time on Monday, March 6, 2006.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-3081 Filed 3-3-06; 8:45 am]

BILLING CODE 6717-01-P